NATIONAL CAPITAL PLANNING COMMISSION

Notice of Final Adoption and Effective Date for the Introduction Chapter Updates of the Comprehensive Plan for the National Capital: Federal Elements

AGENCY: National Capital Planning Commission.

ACTION: Notice of final adoption and effective date.

SUMMARY: The National Capital Planning Commission (NCPC) adopted updates to the Introduction Chapter of the Comprehensive Plan for the National: Federal Elements on June 6, 2024. The Introduction Chapter establishes the planning framework for the Comprehensive Plan's Federal Elements to guide agency actions, including review of projects and long-range plans that affect Federal buildings, installations, campuses, and master plans in the National Capital Region. The revisions include references to equity and sustainability and support the updates to the Submission Guidelines. The Introduction Chapter is available online at: https://www.ncpc.gov/initiatives/intro/.

DATES: The revised Introduction Chapter will become effective August 12, 2024.

FOR FURTHER INFORMATION CONTACT: Brittney Drakeford at (202) 482-7251 or info@ncpc.gov.

(Authority: 40 U.S.C. 8721(a))

Dated: June 6, 2024.
Angela Dupont,
Senior Urban Planner, Policy and Research Division.

[FR Doc. 2024-12779 Filed 6-11-24; 8:45 am]

BILLING CODE 7502-02-P